FEDERAL PERMITTING IMPROVEMENT STEERING COUNCIL

40 CFR Part 1900

[Docket Number 2023-001]

RIN 3121-AA04

Revising Scope of the Mining Sector of Projects That Are Eligible for Coverage Under Title 41 of the Fixing America's Surface Transportation Act

AGENCY: Federal Permitting Improvement Steering Council.

ACTION: Extension of comment period.

SUMMARY: The Federal Permitting Improvement Steering Council (Permitting Council) is extending by 30 days the deadline for submitting comments on its proposal to amend its regulations to revise the scope of “mining” as a sector with infrastructure projects eligible for coverage under Title 41 of the Fixing America's Surface Transportation Act (FAST-41) to: (1) apply solely to critical minerals mining projects; and (2) expand the scope of the sector to include infrastructure constructed to support critical minerals supply chain activities, including critical minerals beneficiation, processing, and recycling.

DATES: Comments now must be submitted on or before November 22, 2023.

ADDRESSES: You may send comments, identified by Permitting Council Docket Number 2023-001 or RIN 3121-AA04, by any of the following methods:

• Federal eRulemaking Portal: https://www.regulations.gov. Follow the instructions for sending comments.

• Mail: Federal Permitting Improvement Steering Council, Office of the Executive Director, 1800 M St. NW, Suite 6006, Washington, DC 20036, Attention: RIN 3121-AA04.

FOR FURTHER INFORMATION CONTACT: John G. Cossa, General Counsel, Federal Permitting Improvement Steering Council, 1800 M St. NW, Suite 6006, Washington, DC 20036, john.cossa@fpisc.gov, or by telephone at 202-255-6936.

Persons who use a telecommunications device for the deaf may call the Federal Information Relay Service (FIRS) at 1-800-877-8339 to contact this individual during normal business hours or to leave a message at other times. FIRS is available 24 hours a day, 7 days a week. You will receive a reply to a message during normal business hours.

SUPPLEMENTARY INFORMATION: On September 22, 2023, the Permitting Council published in the Federal Register a proposed rule that would amend the Permitting Council's regulations at 40 CFR part 1900 to revise the scope of the FAST-41 “mining” sector to: (1) apply solely to critical minerals mining projects; and (2) expand the scope of the sector to include infrastructure constructed to support critical minerals supply chain activities, including critical minerals beneficiation, processing, and recycling. 88 FR 65350. The proposal provided a 30-day comment period, which would have expired on October 23, 2023.

On October 13, 2023, the Permitting Council received a letter submitted on behalf of various environmental and Tribal entities requesting an extension of the 30-day comment period by an additional 60 days, through December 22, 2023. The Permitting Council has reviewed the request and has determined that an extension of 30 days is warranted to provide the public additional time to review the proposed rule and prepare comments. The full 60-day request was not granted given that the proposed rule is administrative in nature and does not make any critical minerals mining or supply chain project more or less likely to be approved or implemented, or any environmental or economic effect that may be associated with a critical minerals infrastructure project to occur. Accordingly, the Permitting Council is extending the comment period for this proposed rulemaking from October 23, 2023, to November 22, 2023. Comments on the proposed rule now must be submitted on or before November 22, 2023.

* * * * *

Eric Beightel,
Executive Director, Federal Permitting Improvement Steering Council.

[FR Doc. 2023-23456 Filed 10-23-23; 8:45 am]

BILLING CODE 6820-PL-P